ENVIRONMENTAL PROTECTION AGENCY

[FRL-6543-7]

Clean Air Act Advisory Committee—Notice of Creation of the Clean Air Excellence Awards Program

SUMMARY: The Environmental Protection Agency (EPA) established the Clean Air Act Advisory Committee (CAAAC) on November 19, 1990, to provide independent advice and counsel to EPA on policy issues associated with implementation of the Clean Air Act of 1990. The Committee advises on economic, environmental, technical, scientific, and enforcement policy issues. At its meeting on April 27, 1999, the Committee approved a proposal to establish an annual awards program to recognize outstanding and innovative efforts that support progress in achieving clean air. This notice announces the creation of this awards program.

AWARDS PROGRAM NOTICE: Pursuant to 5 U.S.C. App.2 Section 10(a)(2), notice is hereby given that the Clean Air Advisory Committee is establishing the “Clean Air Excellence Awards Program” (CAEAP). The intent of the program is to recognize and honor outstanding, innovative efforts that help to make progress in achieving cleaner air. The CAEAP is open to both public and private entities. Entries are limited to the United States. There are six award categories: (1) Clean Air Technology; (2) Community Development/Redevelopment; (3) Education/Outreach; (4) Regulatory/Policy Innovations; (5) Transportation Efficiency Innovations; and (6) Outstanding Individual Achievement Award. Awards are recognition only and will be given on an annual basis.

ENTRY REQUIREMENTS AND DEADLINE: All applicants are asked to submit their entry on a CAEAP entry form, contained in the CAEAP Entry Package, which may be obtained from the CAAAC WEB site at www.epa.gov/oar/caaac/index.html or contacting Mr. Paul Rasmussen, U.S. EPA at 202-564-1306 or 202-564-1352 (Fax), mailing address: Office of Air and Radiation (6102A), 1200 Pennsylvania Avenue, NW, Washington DC, 20004. The entry form is a simple, three-part form asking for general information on the applicant and the proposed entry; asking for a description of why the entry is deserving of an award; and requiring information from three (3) independent references for the proposed entry. Applicants should also submit additional supporting documentation as necessary. Specific directions and information on filing an entry form are included in the Entry Package available through the directions above. The deadline for all submission of entries is June 2, 2000.

JUDGING AND AWARD CRITERIA: Judging will be accomplished through a screening process conducted by EPA staff, with input from outside subject experts, as needed. A workgroup of the CAAAC will conduct an addition review. The final award recommendations will be made by the CAAAC and forwarded to the EPA Assistant Administrator for Air and Radiation for a final decision. Entries will be judged using both general criteria and criteria specific to each individual category. There are four (4) general criteria: (1) The entry directly or indirectly (i.e., by encouraging actions) reduces emissions of criteria pollutants, greenhouse gases, or hazardous/toxic air pollutants; (2) The entry demonstrates innovation and uniqueness; (3) The entry provides a model for others to follow (i.e., it is replicable); and (4) The positive outcomes from the entry are continuing/sustainable. Although not required to win an award, the following general criteria will also be considered in the judging process: (1) The entry has positive effects on other environmental media in addition to air; (2) The entry demonstrates effective collaboration and partnerships; and (3) The individual or organization submitting the entry has effectively measured/evaluated the outcomes of the project, program, technology, etc. As mentioned above, additional criteria will be used for each individual award category. These criteria are listed in the 2000 Entry Package.

FOR FURTHER INFORMATION CONTACT: For further information concerning this new awards program please use the CAAAC Web site cited above or contact Paul Rasmussen at the telephone and address cited above.

Dated: February 11, 2000.
Robert Perciasepe,
Assistant Administrator for Air and Radiation.

[FR Doc. 00-4652 Filed 2-25-00; 8:45 am]

BILLING CODE 6560-56-M